ENVIRONMENTAL PROTECTION AGENCY

40 CFR Part 721

[EPA-HQ-OPPT-2020-0588; FRL-8582-03-OCSPP]

RIN 2070-AB27

Significant New Use Rules on Certain Chemical Substances (21-1.5e); Correction

AGENCY: Environmental Protection Agency (EPA).

ACTION: Final rule; correction.

SUMMARY: EPA issued a final rule in the Federal Register of Friday, December 2, 2022, concerning significant new use rules (SNURs) under the Toxic Substances Control Act (TSCA) for chemical substances that were the subject of premanufacture notices (PMNs) and a Microbial Commercial Activity Notice (MCAN). This document corrects a typographical error in the regulatory text for the chemical substance generically identified as hindered amine alkyl ester compounds (PMN P-16-167).

DATES: This correction is effective January 31, 2023.

FOR FURTHER INFORMATION CONTACT: William Wysong, New Chemicals Division (7405M), Office of Pollution Prevention and Toxics, Environmental Protection Agency, 1200 Pennsylvania Ave. NW, Washington, DC 20460-0001; telephone number: (202) 564-4163; email address: wysong.william@epa.gov.

SUPPLEMENTARY INFORMATION: In FR Doc. 2022-25807 appearing on page 73941 in the Federal Register of Friday, December 2, 2022 (87 FR 73941; FRL-8582-01-OCSPP), the following correction is made to fix an inadvertent omission to designate paragraph (a)(1) in the regulatory text for the chemical substance generically identified as hindered amine alkyl ester compounds (PMN P-16-167) that is codified in 40 CFR 721.11571.

Federal Register Correction

§ 721.11571 [Corrected]

Effective January 31, 2023, in FR Doc. 2022-25807, on page 73947 in the Federal Register of Friday, December 2, 2022, in the second column, in amendatory instruction 4, § 721.11571 is corrected by designating the text following the paragraph (a) heading as paragraph (a)(1).

Dated: January 20, 2023.
Mark Hartman,
Deputy Director, Office of Pollution Prevention and Toxics.

[FR Doc. 2023-01503 Filed 1-27-23; 8:45 am]

BILLING CODE 6560-50-P